DEPARTMENT OF TRANSPORTATION

Federal Aviation Administration

Commercial Space Transportation Advisory Committee Open Meeting

AGENCY: Federal Aviation Administration (FAA), DOT.

ACTION: Notice of Commercial Space Transportation Advisory Committee open meeting.

SUMMARY: Pursuant to the Federal Advisory Committee Act, notice is hereby given of a meeting of the Commercial Space Transportation Advisory Committee (COMSTAC).

DATES: The meeting will take place on Wednesday, May 7, 2014, from 8 a.m. to 5 p.m., and Thursday, May 8, 2014, from 8:30 a.m. to 2 p.m.

ADDRESSES: The meeting will take place at the National Transportation Safety Board Conference Center, 429 L'Enfant Plaza SW., Washington, DC 20594.

FOR FURTHER INFORMATION CONTACT: Larry Scott, telephone (202) 267-7982; email larry.scott@faa.gov, FAA Office of Commercial Space Transportation (AST-3), 800 Independence Avenue SW., Room 331, Washington, DC 20591.

SUPPLEMENTARY INFORMATION: This will be the 59th meeting of the COMSTAC.

The proposed schedule for the COMSTAC working group meetings on May 7 is below:

—Operations (8 a.m.-10 a.m.)

—Business/Legal (10 a.m.-12 a.m.)

—Systems (1 p.m.-3 p.m.)

—International Space Policy (3 p.m.-5 p.m.)

The full Committee will meet on May 8. The proposed agenda for that meeting features speakers relevant to the commercial space transportation industry; and reports and recommendations from the working groups.

Interested members of the public may submit relevant written statements for the COMSTAC members to consider under the advisory process. Statements may concern the issues and agenda items mentioned above and/or additional issues that may be relevant for the U.S. commercial space transportation industry. Interested parties wishing to submit written statements should contact Larry Scott, COMSTAC Designated Federal Officer, (the Contact Person listed in FOR FURTHER INFORMATION CONTACT) in writing (mail or email) by April 30, 2014, so that the information can be made available to COMSTAC members for their review and consideration before the May 7 and 8 meetings. Written statements should be supplied in the following formats: One hard copy with original signature and/or one electronic copy via email.

A portion of the May 8 meeting will be unavailable to the public (starting at approximately 2 p.m.).

An agenda will be posted on the FAA Web site at www.faa.gov/go/ast. For specific information concerning the times and locations of the COMSTAC working group meetings, contact the Contact Person listed below.

Individuals who plan to attend and need special assistance, such as sign language interpretation or other reasonable accommodations, should inform the Contact Persons listed below in advance of the meeting.

Complete information regarding COMSTAC is available on the FAA Web site at: http://www.faa.gov/about/office_org/headquarters_offices/ast/advisory_committee/.

This notice is given pursuant to Section 10(a)(2) of the Federal Advisory Committee Act (Pub. L. 92-463, 5 U.S.C. App. 2).

Issued in Washington, DC, March 25, 2014.
George C. Nield,
Associate Administrator for Commercial Space Transportation.

[FR Doc. 2014-07288 Filed 4-1-14; 8:45 am]

BILLING CODE 4910-13-P